NATIONAL TRANSPORTATION SAFETY BOARD

Sunshine Act Meeting

AGENCY: National Transportation Safety Board (NTSB).

FEDERAL REGISTER CITATION OF PREVIOUS ANNOUNCEMENT: 81 FR 75858.

PREVIOUSLY ANNOUNCED TIME AND DATE OF MEETING: 9:30 a.m., Tuesday, November 15, 2016.

PLACE: NTSB Conference Center, 429 L'Enfant Plaza SW., Washington, DC 20594.

CHANGES IN THE MEETING: The first item will not be a Sunshine Meeting, it will be a Staff Presentation.

8791 ADMS Briefs on Two Midair Collisions—July 7, 2015, accident involving a Cessna 150M and a Lockheed Martin F-16CM near Moncks Corner, South Carolina (ERA15MA259A/B); and August 16, 2015, accident involving a Cessna 172M and a North American Rockwell NA265-60SC Sabreliner near San Diego, California (WPR15MA243A/B); and Safety Alert—Preventing Midair Collisions: Don't Depend on Vision Alone

FOR FURTHER INFORMATION CONTACT: Candi R. Bing, Federal Register Liaison National Transportation Safety Board, 490 L'Enfant Plaza SW., Washington, DC 20594-0001, (202)314-6403.

Candi R. Bing,
Federal Register Liaison.

[FR Doc. 2016-27352 Filed 11-8-16; 4:15 pm]

BILLING CODE 7533-01-P